DEPARTMENT OF HEALTH AND HUMAN SERVICES

Health Resources and Services Administration

National Advisory Committee on Rural Health and Human Services; Notice of Meeting

In accordance with section 10(a)(2) of the Federal Advisory Committee Act (Pub. L. 92-463), notice is hereby given that the following committee will convene its sixty-sixth meeting.

Name: National Advisory Committee on Rural Health and Human Services.

Dates and Times:

September 15, 2010, 8:45 a.m.-5 p.m.

September 16, 2010, 8:45 a.m.-4 p.m.

September 17, 2010, 8:45 a.m.-11:15 a.m.

Place: Ox Yoke Inn, 4420 220th Trail, Amana, Iowa 52203. Phone: 319-622-3441.

Status: The meeting will be open to the public.

Purpose: The National Advisory Committee on Rural Health and Human Services provides advice and recommendations to the Secretary with respect to the delivery, research, development, and administration of health and human services in rural areas.

Agenda: Wednesday morning, at 8:45 a.m., the meeting will be called to order by the Chairperson of the Committee, the Honorable Ronnie Musgrove. The first two presentations will be overviews of rural Iowa and the Iowa State Office of Rural Health. The remainder of the day the Committee will hear presentations on the three chosen Subcommittee topics. The first panel will focus on Childhood Obesity in Rural Communities. The second panel is Quality Implications of the Affordable Care Act. The final panel of the day is Rural Early Childhood Development Place-Based Initiatives. After the panel discussions, the Committee Chair will give an overview of the site visits. This will be followed by a call for public comment. The Monday meeting will close at 5 p.m.

Thursday morning, at 8:45 a.m., Tom Morris, Associate Administrator for Rural Health Policy, will provide a Departmental Update. At 9:15 a.m., the Committee will break into Subcommittees and depart to the site visits. The Childhood Obesity Subcommittee will visit Kids Corner in Tama County, IA and the Rural Early Childhood Development Place-Based Initiatives Subcommittee will visit the Pick A Better Snack Program at Walterboro Elementary in Walterboro, IA. The Quality Implications of the Affordable Care Act Subcommittee will visit a rural hospital, Grinnell Regional Medical Center. The Subcommittees will return to the Ox Yoke Inn in Amana at 3:30 p.m. Transportation to the site visits will not be provided to the public. The Tuesday meeting will close at 4 p.m.

The final session will be convened on Friday morning at 8:45 a.m. The meeting will open with a review of the Subcommittee site visits. The Chair of the Committee will lead a Working Session to discuss development of the Report to the Secretary. The Committee will draft a letter to the Secretary and discuss the February 2011 meeting. The meeting will be adjourned at 11:15 a.m.

For Further Information Contact: Thomas Morris, MPA, Executive Secretary, National Advisory Committee on Rural Health and Human Services, Health Resources and Services Administration, Parklawn Building, Room 10B-45, 5600 Fishers Lane, Rockville, MD 20857, Telephone (301) 443-0835, Fax (301) 443-2803.

Persons interested in attending any portion of the meeting should contact Jennifer Chang at the Office of Rural Health Policy (ORHP) via Telephone at (301) 443-0835 or by e-mail at jchang@hrsa.gov. The Committee meeting agenda will be posted on ORHP's Web site http://www.ruralhealth.hrsa.gov.

Dated: August 12, 2010.
Sahira Rafiullah,
Director, Division of Policy and Information Coordination.

[FR Doc. 2010-20424 Filed 8-17-10; 8:45 am]

BILLING CODE 4165-15-P